FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 29, 2011.

A. Federal Reserve Bank of Chicago (Colette A. Fried, Assistant Vice President) 230 South LaSalle Street, Chicago, Illinois 60690-1414:

1. David E. Kirschner and Margaret Kirschner, as co-trustees of the Henry C. Kirschner Trust B1, and David E. Kirschner and Margaret Kirschner, individually and as co-trustees of the Henry C. Kirschner Trust A2, acting in concert with The Noble Foundation, Philip and Cheryl Kirschner, Khajha Kirschner, Pamela Kirschner Bolduc, and the Mary C. Kirschner 2007 Trust with David E. Kirschner acting as trustee; to acquire 25 percent or more of the voting shares of Town and Country Financial Corporation, Springfield, Illinois, and thereby indirectly acquire control of Town and Country Bank, Springfield, Illinois, and Logan County Bank, Lincoln, Illinois.

Board of Governors of the Federal Reserve System, July 11, 2011.
Robert deV. Frierson,
Deputy Secretary of the Board.

[FR Doc. 2011-17706 Filed 7-13-11; 8:45 am]

BILLING CODE 6210-01-P